INTERNATIONAL TRADE COMMISSION

[Investigation No. 337-TA-779]

In the Matter of Certain Flip-Top Vials and Products Using the Same; Notice of Commission Decision Not To Review an Initial Determination Terminating the Investigation

AGENCY: International Trade Commission.

ACTION: Notice.

SUMMARY: Notice is hereby given that the U.S. International Trade Commission has determined not to review the presiding administrative law judge's initial determination (“ID”) (Order No. 9) granting a joint motion to terminate the above-captioned investigation.

FOR FURTHER INFORMATION CONTACT: Sidney A. Rosenzweig, Office of the General Counsel, U.S. International Trade Commission, 500 E Street, SW., Washington, D.C. 20436, telephone (202) 708-2532. Copies of non-confidential documents filed in connection with this investigation are or will be available for inspection during official business hours (8:45 a.m. to 5:15 p.m.) in the Office of the Secretary, U.S. International Trade Commission, 500 E Street, SW., Washington, D.C. 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 22, 2011, based on a complaint filed by CSP Technologies, Inc. of Auburn, Alabama that named as respondents Süd-Chemie AG of Germany; Süd-Chemie, Inc. of Louisville, Kentucky; and Airsec S.A.S. of France. 76 FR 36576 (June 22, 2011). The complaint alleged a violation of section 337 of the Tariff Act of 1930, as amended, 19 U.S.C. 1337, in the importation, sale for importation, and sale within the United States after importation of certain flip-top vials and products using the same by reason of infringement of certain claims of U.S. Patent No. 7,537,137.

On August 16, 2011, the private parties filed a joint motion to terminate the investigation on the basis of withdrawal of the complaint. See 19 CFR 210.21(a)(1). The Commission investigative attorney did not oppose the motion, and on August 29, 2011, the ALJ granted the motion as an ID (Order No. 9).

No petitions for review of the ID were filed. The Commission has determined not to review the ID.

The authority for the Commission's determination is contained in section 337 of the Tariff Act of 1930, as amended (19 U.S.C. 1337), and in Part 210 of the Commission's Rules of Practice and Procedure (19 CFR part 210).

Issued: September 19, 2011.
By order of the Commission.
James R. Holbein,
Secretary to the Commission.

[FR Doc. 2011-24337 Filed 9-21-11; 8:45 am]

BILLING CODE 7020-02-P